DEPARTMENT OF COMMERCE

International Trade Administration

[A-580-878]

Corrosion-Resistant Steel Products From the Republic of Korea: Final Results of Antidumping Duty Administrative Review and Final Determination of No Shipments; 2017-2018

AGENCY: Enforcement and Compliance, International Trade Administration, Department of Commerce.

SUMMARY: The Department of Commerce (Commerce) determines that Dongkuk Steel Mill Co., Ltd. (Dongkuk) made sales of corrosion-resistant steel products (CORE) from the Republic of Korea (Korea) at less than normal value, and Hyundai Steel Company (Hyundai) did not, during the period of review (POR), July 1, 2017 through June 30, 2018.

DATES: Applicable March 17, 2020.

FOR FURTHER INFORMATION CONTACT: Lingjun Wang or Elfi Blum-Page, AD/CVD Operations, Office VII, Enforcement and Compliance, International Trade Administration, U.S. Department of Commerce, 1401 Constitution Avenue NW, Washington, DC 20230; telephone: (202) 482-2316 or (202) 482-0197, respectively.

SUPPLEMENTARY INFORMATION:

Background

Commerce published the Preliminary Results on September 12, 2019.¹ On January 27, 2020, Commerce determined that a cost-based particular market situation (PMS) existed with respect to the production cost of CORE in Korea during the POR.² For a history of events that occurred since the Preliminary Results, see the IDM.³ On January 2, 2020, Commerce postponed the final results of this review until March 10, 2020.⁴

¹ See Corrosion-Resistant Steel Products from the Republic of Korea: Preliminary Results of Antidumping Duty Administrative Review and Preliminary Determination of No Shipments; 2016-2017, 84 FR 48118 (September 12, 2019) (Preliminary Results), and accompanying Preliminary Decision Memorandum (PDM).

² See Memorandum, “Antidumping Duty Administrative Review of Certain Corrosion-Resistant Steel Products from the Republic of Korea; 2017-2018: Post-Preliminary Decision Memorandum on Particular Market Situation,” dated January 27, 2020 (PMS Memorandum).

³ See Memorandum, “Issues and Decision Memorandum for the Final Results of Antidumping Duty Administrative Review and Final Determination of No Shipments: Certain Corrosion-Resistant Steel Products from the Republic of Korea; 2017-2018”, dated concurrently with, and hereby adopted by, this notice (IDM).

⁴ See Memorandum, “Certain Corrosion-Resistant Steel Products from the Republic of Korea: Extension of Deadline for Final Results of Antidumping Duty Administrative Review,” dated January 2, 2020.

Scope of the Order

The products covered by this order are certain corrosion-resistant steel products. For a complete description of the scope of this order, see attachment to the IDM.

Analysis of Comments Received

All issues raised in the case and rebuttal briefs by parties are addressed in the IDM. The issues are identified in the Appendix to this notice. The IDM is a public document and is on-file electronically via Enforcement and Compliance's Antidumping and Countervailing Duty Centralized Electronic Service System (ACCESS). ACCESS is available to registered users at https://access.trade.gov and in the Central Records Unit, room B8024 of the main Commerce building. In addition, a complete version of the IDM can be accessed at http://enforcement.trade.gov/frn/index.html. The signed and the electronic versions of the IDM are identical in content.

Changes Since the Preliminary Results

We increased the cost of the respondents' purchased hot-rolled coil by 17.29 percent for the final results, revised from the 13.97 percent used in the post-preliminarily results.⁵

⁵ See PMS Memorandum and IDM.

Final Determination of No Shipments

We received no comments regarding our preliminary determination of no shipments with respect to Samsung C&T Corporation, Hyosung Corporation, and Hyosung TNC. As the record contains no other information that calls into question our preliminary findings, we continue to find that those three companies had no shipments of subject merchandise during the POR.

Rate for Non-Examined Companies

For the final results of this review, the only weighted-average dumping margin that is not zero, de minimis, or determined entirely on the basis of facts is the margin calculated for Dongkuk. Thus, Commerce has assigned the margin calculated for Dongkuk to the non-examined companies.

Final Results of the Administrative Review

We have determined the following weighted-average dumping margins for the exporters or producers listed below exist for the POR:

Exporter/producer | Weighted- average dumping margin (percent)
Dongkuk Steel Mill Co., Ltd | 2.43
Hyundai Steel Company | 0.00
Anjeon Tech Co., Ltd | 2.43
Benion Corp. | 2.43
Dongbu Steel, Co., Ltd | 2.43
Dongbu Incheon Steel Co., Ltd | 2.43
GS Global Corp | 2.43
Kima Steel Corporation Ltd | 2.43
Mitsubishi Corp. (Korea) Ltd | 2.43
POSCO | 2.43
POSCO Coated & Color Steel Co., Ltd | 2.43
POSCO Daewoo Corporation | 2.43
SeAH Coated Metal Corporation | 2.43
Young Steel Co., Ltd | 2.43

Assessment Rates

Pursuant to section 751(a)(2)(A) of the Tariff Act of 1930, as amended (the Act), and 19 CFR 351.212(b)(1), Commerce will determine, and U.S. Customs and Border Protections (CBP) shall assess, antidumping duties on all appropriate entries of subject merchandise in accordance with the final results of this review. We will calculate importer-specific assessment rates on the basis of the ratio of the total amount of antidumping duties calculated for each importer's examined sales and the total entered value of the sales in accordance with 19 CFR 351.212(b)(1).

For entries of subject merchandise during the POR produced by each respondent for which it did not know its merchandise was destined for the United States, we will instruct CBP to liquidate such entries at the all-others rate if there is no rate for the intermediate company(ies) involved in the transaction. We intend to issue liquidation instructions to CBP 15 days after publication of the final results of this review.

Cash Deposit Requirements

The following cash deposit requirements will be effective upon publication of the notice of final results of administrative review for all shipments of subject merchandise entered, or withdrawn from warehouse, for consumption on or after the date of publication, as provided by section 751(a)(2) of the Act: (1) The cash deposit rate for the respondents noted above will be the rate established in the final results of this administrative review; (2) for merchandise exported by manufacturers or exporters not covered in this administrative review but covered in a prior segment of the proceeding, the cash deposit rate will continue to be the company-specific rate published for the most recently completed segment of this proceeding; (3) if the exporter is not a firm covered in this review, a prior review, or the original investigation, but the producer is, then the cash deposit rate will be the rate established for the most recently completed segment of this proceeding for the producer of the subject merchandise; and (4) the cash deposit rate for all other producers or exporters will continue to be 8.31 percent, the all-others cash deposit rate established in the investigation.⁶ These cash deposit requirements, when imposed, shall remain in effect until further notice.

⁶ See Certain Corrosion-Resistant Steel Products from India, Italy, the People's Republic of China, the Republic of Korea and Taiwan: Amended Final Affirmative Antidumping Determination for India and Taiwan, and Antidumping Duty Orders, 81 FR 48390 (July 25, 2016), as amended by Certain Corrosion-Resistant Steel Products from the Republic of Korea: Notice of Court Decision Not in Harmony with Final Determination of Investigation and Notice of Amended Final Results, 83 FR 39054 (August 8, 2018).

Notification to Importers Regarding the Reimbursement of Duties

This notice also serves as a final reminder to importers of their responsibility under 19 CFR 351.402(f) to file a certificate regarding the reimbursement of antidumping duties prior to liquidation of the relevant entries during the POR. Failure to comply with this requirement could result in Commerce's presumption that reimbursement of antidumping duties occurred and the subsequent assessment of doubled antidumping duties.

Administrative Protective Order

This notice also serves as a reminder to parties subject to administrative protective orders (APO) of their responsibility concerning the return or destruction of proprietary information disclosed under APO in accordance with 19 CFR 351.305(a)(3). Timely written notification of the return or destruction of APO materials, or conversion to judicial protective order, is hereby requested. Failure to comply with the regulations and the terms of an APO is a sanctionable violation.

Notification to Interested Parties

We are issuing and publishing this notice in accordance with sections 751(a)(1) and 777(i) of the Act, and 19 CFR 351.221(b)(5).

Dated: March 10, 2020.
Jeffrey I. Kessler,
Assistant Secretary for Enforcement and Compliance.

Appendix—List of Topics Discussed in the IDM

I. Summary

II. Background

III. Scope of the Order

IV. Changes Since the Preliminary Results

V. Companies Not Selected for Individual Examination

VI. Final Determination of No Shipments

VII. Discussion of the Comments

Comment 1: Legal Authority for Applying PMS to the Sales-Below-Cost Test

Comment 2: Existence of a PMS

Comment 3: Quantifying the PMS

Comment 4: Dongkuk's Constructed Export Price (CEP) Offset

Comment 5: Dongkuk's Inland Freight from Plant to Port of Exportation

VII. Recommendation

[FR Doc. 2020-05489 Filed 3-16-20; 8:45 am]

BILLING CODE 3510-DS-P